DEPARTMENT OF ENERGY

Federal Energy Regulatory Commission

[Project No. 5296-014]

Champlain Spinners Power Company Inc., Champlain Spinners Power, LLC; Notice of Transfer of Exemption

1. By letter filed July 29, 2016, Eagle Creek Renewable Energy, LLC submitted notice to the Commission that, through its subsidiary Eagle Creek Development Holdings, LLC, it has acquired Champlain Spinners Power Company Inc., the exemptee for the Champlain Spinners Project No. 5296, originally issued March 1, 1982.¹ In the course of the transaction, Champlain Spinners Power Company, Inc. converted its corporate form from a corporation into a limited liability company and transferred the exemption to Champlain Spinners Power, LLC. The project is located on the Champlain Canal in Washington County, New York. The transfer of an exemption does not require Commission approval.

¹ 19 FERC ¶ 62,508 (1982), Order Granting Exemption from Licensing of a Small Hydroelectric Project of 5 Megawatts or Less and Dismissing Application for Preliminary Permit.

2. Champlain Spinners Power, LLC is now the exemptee of the Champlain Spinners Project No. 5296. All correspondence should be forwarded to: Mr. Bernard Cherry, Champlain Spinners Power, LLC, c/o Eagle Creek Renewable Energy, LLC, 65 Madison Avenue, Suite 500, Morristown, NJ 07960.

Dated: August 25, 2016.
Kimberly D. Bose,
Secretary.

[FR Doc. 2016-20979 Filed 8-30-16; 8:45 am]

BILLING CODE 6717-01-P